DEPARTMENT OF ENERGY

Federal Energy Regulatory Commission

[Docket No. AD09-8-000]

Transmission Planning Processes Under Order No. 890; Supplemental Notice of Technical Conferences

August 3, 2009.

On June 30, 2009, the Commission issued a notice scheduling staff technical conferences to examine the transmission planning processes that are being conducted pursuant to Order No. 890.¹ As stated in the June 30 notice, these technical conferences are intended to meet the Commission's commitment that its staff would conduct an assessment of the Order No. 890 transmission planning processes. The focus of the 2009 regional technical conferences will be: (1) To determine the progress and benefits realized by each transmission provider's transmission planning process, obtain customer and other stakeholder input, and discuss any areas that may need improvement; (2) to examine whether existing transmission planning processes adequately consider needs and solutions on a regional or interconnection-wide basis to ensure adequate and reliable supplies at just and reasonable rates; and (3) to explore whether existing processes are sufficient to meet emerging challenges to the transmission system, such as the development of inter-regional transmission facilities, the integration of large amounts of location-constrained generation, and the interconnection of distributed energy resources.

¹ Preventing Undue Discrimination and Preference in Transmission Service, Order No. 890, FERC Stats. & Regs. ¶ 31,241, order on reh'g, Order No. 890-A, FERC Stats. & Regs. ¶ 31,261 (2007), order on reh'g, Order No. 890-B, 123 FERC ¶ 61,299 (2008), order on reh'g, Order No. 890-C, 126 FERC ¶ 61,228 (2009).

The attached agenda provides details on the topics that will be discussed on the panels at each of the three conferences as well as the topics panelists should be prepared to address.

As provided for in the June 30 notice, those wishing to participate as panelists should submit a request form, as indicated below, describing the topic(s) they wish to address. Those wishing to attend each conference are also asked to complete the registration form, as indicated below.

A final notice with a list of the panelists for each conference will be issued in advance of the conferences.

Date | Location | Further information
September 3, 2009 | Phoenix Airport Marriott, 1101 North 44th Street, Phoenix, AZ 85008 | Entities located within the ColumbiaGrid, Northern Tier Transmission Group, WestConnect, and CAISO footprints, and other entities in the WECC region that are not a part of any of these subregional groups. Staff also requests a representative of WECC's Transmission Expansion Planning Policy Committee attend this technical conference.
|  | For further information, see calendar listing, located at: http://www.ferc.gov/EventCalendar/EventDetails.aspx?ID=4744&CalType=%20&CalendarID=116&Date=09/03/2009&View=Listview.
|  | Those wishing to participate as a panelist on one of the panels in the attached agenda should submit a request form by close of business on August 13, 2009, located at: https://www.ferc.gov/whats-new/registration/trans-09-03-speaker-form.asp.
|  | Those that plan to attend the Phoenix conference should submit the registration form, located at: https://www.ferc.gov/whats-new/registration/trans-09-03-form.asp
September 10, 2009 | Sheraton Gateway Hotel, Atlanta Airport, 1900 Sullivan Road, Atlanta, GA 30337 | Entities located in the states represented in the Southeastern Association of Regulatory Utility Commissioners (SEARUC) and entities located in the Southwest Power Pool footprint.
|  | For further information, see calendar listing, located at: http://www.ferc.gov/EventCalendar/EventDetails.aspx?ID=4745&CalType=%20&CalendarID=116&Date=09/10/2009&View=Listview.
|  | Those wishing to participate as a panelist on one of the panels in the attached agenda should submit a request form by close of business on August 20, 2009, located at: https://www.ferc.gov/whats-new/registration/trans-09-10-speaker-form.asp
|  | Those that plan to attend the Atlanta conference should submit the registration form, located at: https://www.ferc.gov/whats-new/registration/trans-09-10-form.asp.
September 21, 2009 | Marriott Philadelphia Airport, One Arrivals Road, Philadelphia, PA 19153 | Entities located within the Midwest ISO, PJM, New York ISO, and ISO New England footprints, MAPP/MAPP Participants, and adjacent areas.
|  | For further information, see calendar listing, located at: http://www.ferc.gov/EventCalendar/EventDetails.aspx?ID=4746&CalType=%20&CalendarID=116&Date=09/21/2009&View=Listview.
|  | Those wishing to participate as a panelist on one of the panels in the attached agenda should submit a request form by close of business on August 31, 2009, located at: https://www.ferc.gov/whats-new/registration/trans-09-21-speaker-form.asp.
|  | Those that plan to attend the Philadelphia conference should submit the registration form, located at: https://www.ferc.gov/whats-new/registration/trans-09-21-form.asp.

In the event a transmission provider is uncertain as to which technical conference is the appropriate forum for discussion of its planning process, such transmission providers should contact Commission staff in advance to discuss the matter. Lastly, a comment date will be set at a later date allowing for the filing of post-conference comments.

For further information about these conferences, please contact:

Zeny Magos (Technical Information), Office of Energy Market Regulation, Federal Energy Regulatory Commission, 888 First Street, NE., Washington, DC 20426, (202) 502-8244, zeny.magos@ferc.gov.

John Cohen (Legal Information), Office of the General Counsel—Energy Markets, Federal Energy Regulatory Commission, 888 First Street, NE., Washington, DC 20426, (202) 502-8705, john.cohen@ferc.gov.

Nathaniel J. Davis, Sr.,
Deputy Secretary.

[FR Doc. E9-19138 Filed 8-10-09; 8:45 am]

BILLING CODE 6717-01-P